DEPARTMENT OF COMMERCE

National Institute of Standards and Technology

National Institute of Standards and Technology Performance Review Board Membership

The National Institute of Standards and Technology (NIST PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the NIST PRB and supersedes the list published in Federal Register Vol. 71, No. 157, pages 46894-46895, on August 15, 2006.

Bruce Borzino (C), Deputy Director, National Technical Information Service, Springfield, VA 22161. Appointment Expires: 12/31/2008. General.

Paul Doremus (C), Director of Strategic Planning, Program Planning and Integration, National Oceanic and Atmospheric Administration, Silver Spring, MD 20910. Appointment Expires: 12/31/07. Limited.

Cita Furlani (C), Director, Information Technology Laboratory, National Institute of Standards & Technology, Gaithersburg, MD 20899. Appointment Expires: 12/31/07. Limited.

Patrick Gallagher (C) (Alternate), Director, NIST Center for Neutron Research, Materials Science and Engineering Laboratory, National Institute of Standards and Technology, Gaithersburg, MD 20899. Appointment Expires: 12/31/07. Limited.

Howard Harary (C), Deputy Director, Manufacturing Engineering Laboratory, National Institute of Standards and Technology, Gaithersburg, MD 20899. Appointment Expires: 12/31/07. Limited.

Patricia Sefcik (C), Senior Director to the Deputy Assistant Secretary for Manufacturing, Manufacturing and Services, International Trade Administration, Washington, DC 20230. Appointment Expires: 12/31/07. General.

James M. Turner (G), Deputy Director, National Institute of Standards and Technology, Gaithersburg, MD 20899. Appointment Expires: 12/31/2009. General.

Dated: August 9, 2007.
William Jeffrey,
Director, National Institute of Standards and Technology, Department of Commerce.

[FR Doc. E7-18166 Filed 9-14-07; 8:45 am]

BILLING CODE 3510-JE-P